DEPARTMENT OF HEALTH AND HUMAN SERVICES

Centers for Disease Control and Prevention

Prospective Granting of a Co-Exclusive License

AGENCY: Technology Transfer Office, Centers for Disease Control and Prevention (CDC), Department of Health and Human Services (HHS).

ACTION: Notice.

SUMMARY: This is a notice in accordance with 35 U.S.C. 209(e) and 37 CFR 404.7(a)(1)(i) that the Technology Transfer Office, Centers for Disease Control and Prevention (CDC), Department of Health and Human Services (DHHS), is contemplating the granting of a co-exclusive worldwide license to practice the invention embodied in the patent application referred below to Mk-IX Technologies, having a place of business in Huntsville, Alabama. CDC intends to grant rights to practice this invention to no more than one other co-licensee. The patent rights in these inventions have been assigned to the government of the United States of America. The patent application to be licensed is:

Non-Provisional Patent Application

Title: Wipes and Methods for Removal of Metal Contamination from Surfaces.

Serial No. 11/039,178.

Filing date: 01/18/2005.

Issue Date: Patent pending.

The prospective exclusive license will be royalty-bearing and will comply with the terms and conditions of 35 U.S.C. 209 and 37 CFR 404.7.

ADDRESSES: Requests for a copy of these patent applications, inquiries, comments, and other materials relating to the contemplated license should be directed to Andrew Watkins, Director, Technology Transfer Office, Centers for Disease Control and Prevention (CDC), 4770 Buford Highway, Mailstop K-79, Atlanta, GA 30341, telephone: (770) 488-8610; facsimile: (770) 488-8615. Applications for an exclusive license filed in response to this notice will be treated as objections to the grant of the contemplated co-exclusive license. Only written comments and/or applications for a license which are received by CDC within thirty days of this notice will be considered. Comments and objections submitted in response to this notice will not be made available for public inspection, and, to the extent permitted by law, will not be released under the Freedom of Information Act, 5 U.S.C. 552. A signed Confidential Disclosure Agreement will be required to receive a copy of any pending patent application.

Dated: September 26, 2008.
James D. Seligman,
Chief Information Officer, Centers for Disease Control and Prevention.

[FR Doc. E8-23398 Filed 10-2-08; 8:45 am]

BILLING CODE 4163-18-P